ENVIRONMENTAL PROTECTION AGENCY

40 CFR Part 52

[EPA-R09-OAR-2012-0566; FRL-9719-7]

Limited Approval and Disapproval of Air Quality Implementation Plans; Nevada; Clark County; Stationary Source Permits; Extension of Comment Period

AGENCY: Environmental Protection Agency (EPA).

ACTION: Proposed rule; extension of comment period.

SUMMARY: EPA is extending the comment period on a proposed limited approval and limited disapproval published on July 24, 2012, concerning permit regulations for stationary sources in Clark County, Nevada.

DATES: Any comments on this proposal must arrive by September 7, 2012.

ADDRESSES: Submit comments, identified by Docket ID Number EPA-R09-OAR-2012-0566, by one of the following methods:

1. Federal eRulemaking Portal: www.regulations.gov. Follow the on-line instructions.

2. Email: R9airpermits@epa.gov.

3. Mail or deliver: Gerardo Rios (AIR-3), U.S. Environmental Protection Agency, Region IX, 75 Hawthorne Street, San Francisco, CA 94105-3901. Deliveries are only accepted during the Regional Office's normal hours of operation.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an anonymous access system, and EPA will not know your identity or contact information unless you provide it in the body of your comment. If you send email directly to EPA, your email address will be automatically captured and included as part of the public comment. If EPA cannot read your comment due to technical difficulties and cannot contact you for clarification, EPA may not be able to consider your comment.

Docket: Generally, documents in the docket for this action are available electronically at www.regulations.gov and in hard copy at EPA Region IX, 75 Hawthorne Street, San Francisco, California. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Laura Yannayon, by phone: (415) 972-3534 or by email at yannayon.laura@epa.gov.

SUPPLEMENTARY INFORMATION: On July 24, 2012 (77 FR 43206), EPA proposed a limited approval and limited disapproval of the following regulations submitted for approval into the Clark County portion of the Nevada State Implementation Plan (SIP).

Table 1—Submitted NSR Rules
Section No. | Section title | Adopted | Submitted
0 | Definitions | 3/6/12 | 5/22/12
12.0 | Applicability, General Requirements and Transition Procedures | 11/3/09 | 2/11/10
12.1 | Permit Requirements for Minor Sources | 11/3/09 | 2/11/10
12.2 | Permit Requirements for Major Sources in Attainment Areas (Prevention of Significant Deterioration) | 3/6/12 | 5/22/12
12.3 | Permit Requirements for Major Sources in Nonattainment Areas | 5/18/10 | 9/01/10
12.4 | Authority to Construct Application and Permit Requirements For Part 70 Sources | 5/18/10 | 9/01/10

The proposed rule provided a 30-day public comment period. In response to a request from Clark County submitted by letter on August 9, 2012, EPA is extending the comment period for an additional 15 days.

Dated: August 13, 2012.
Jared Blumenfeld,
Regional Administrator, Region IX.

[FR Doc. 2012-20497 Filed 8-21-12; 8:45 am]

BILLING CODE 6560-50-P